DEPARTMENT OF AGRICULTURE

Forest Service

Lyon & Mineral County Resource Advisory Committee

AGENCY: Forest Service, USDA.

ACTION: Notice of meeting.

SUMMARY: The Lyon and Mineral County Resource Advisory Committee will meet in Smith Valley, Nevada. The committee is meeting as authorized under the Secure Rural Schools and Community Self-Determination Act (Pub. L. 110-343) and in compliance with the Federal Advisory Committee Act. The purpose of the meeting is to hold the first meeting of the newly formed committee.

DATES: The meeting will be held April 25, 2011 at 9 a.m.

ADDRESSES: The meeting will be held at the Smith Valley Library at 32 Day Lane, Smith Valley, NV 89444. Written comments should be sent to Mike Crawley, Bridgeport Ranger District, Humboldt-Toiyabe National Forest, HC 62 Box 1000, Bridgeport, CA 93517. Comments may also be sent via e-mail to mcrawley@fs.fed.us, or via facsimile to 760-932-5899.

All comments, including names and addresses when provided, are placed in the record and are available for public inspection and copying. The public may inspect comments received at the Bridgeport Ranger District, Humboldt-Toiyabe National Forest, HC 62 Box 1000, Bridgeport, CA 93517. Visitors are encouraged to call ahead to 760-932-7070 to facilitate entry into the building.

FOR FURTHER INFORMATION CONTACT: Sherri Lisius, RAC coordinator, Bridgeport Ranger District, Humboldt-Toiyabe National Forest, HC 62 Box 1000, Bridgeport, CA 93517; 760-932-7070; sherrilisius@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel. (2) Selection of a chairperson by the committee members. (3) Receive materials explaining the process for considering and recommending Title II projects; and (4) Public Comment. Persons who wish to bring related matters to the attention of the Committee may file written statements with the Committee staff before or after the meeting. Public input sessions will be provided and individuals who made written requests by April 18, 2011 will have the opportunity to address the Comittee at those sessions.

Dated: March 31, 2011.
Jeanne M. Higgins,
Forest Supervisor.

[FR Doc. 2011-8131 Filed 4-5-11; 8:45 am]

BILLING CODE 3410-11-P